DEPARTMENT OF DEFENSE

Office of the Secretary

[Docket ID: DoD-2013-OS-0199]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 25, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency, J-651, 8725 John J. Kingman Road, Fort Belvoir, Virginia, 22060, or call (717) 770-6680.

SUPPLEMENTARY INFORMATION:

Title; Associated Form; and OMB Number: Project Time Record System; OMB Control Number 0704-0452.

Needs and Uses: Contractors working for the Defense Logistics Agency, Information Operations, J-6, log into an automated project time record system and annotate their time on applicable projects. The system collects the records for the purpose of tracking workload/project activity for analysis and reporting purposes, and labor distribution data against projects for financial purposes; and to monitor all aspects of a contract from a financial perspective and to maintain financial and management records associated with the operations of the contract; and to evaluate and monitor the contractor performance and other matters concerning the contract, i.e., making payments, and accounting for services provided and received. Defense Logistics Agency, Information Operations, J-6, intends to execute this option on new contracts and, as necessary, modify existing contract agreements.

Affected Public: Individuals; Business or other for Profit; Not for-profit institutions.

Annual Burden Hours: 32,500.

Number of Respondents: 2,500.

Responses per Respondent: 52.

Average Burden per Response: 15 minutes.

Frequency: Weekly.

Respondents are individuals who work for Defense Logistics Agency, Information Operations, J-6, and log into the automated project time record system to annotate their time worked on each project.

Dated: September 23, 2013.
Aaron Siegel,
Alternate OSD Federal Register, Liaison Officer, Department of Defense.

[FR Doc. 2013-23430 Filed 9-25-13; 8:45 am]

BILLING CODE 5001-06-P